BUREAU OF CONSUMER FINANCIAL PROTECTION

[Docket No: CFPB-2021-0002]

Privacy Act of 1974; System of Records

AGENCY: Bureau of Consumer Financial Protection.

ACTION: Notice of a new system of records.

SUMMARY: The Bureau of Consumer Financial Protection (CFPB or Bureau) is establishing CFPB.029, Public Health and Safety System, a system of records under the Privacy Act of 1974. This system of records maintains information collected in response to a public health emergency or similar health and safety incident, such as a pandemic, epidemic, or man-made emergency, that is necessary to ensure a safe and healthy environment for individuals who are occupying CFPB facilities, attending CFPB-sponsored events, or otherwise engaged in official business on behalf of the Bureau.

DATES: Comments must be received no later than March 11, 2021. The new system of records will be effective March 11, 2021, unless the comments received result in a contrary determination.

ADDRESSES: You may submit comments, identified by the title and docket number (see above Docket No. CFPB-2021-0002), by any of the following methods:

• Federal eRulemaking Portal: http://www.regulations.gov. Follow the instructions for submitting comments.

• Email: privacy@cfpb.gov.

• Mail/Hand Delivery/Courier: Tannaz Haddadi, Chief Privacy Officer, Bureau of Consumer Financial Protection, 1700 G Street NW, Washington, DC 20552. Please note that due to circumstances associated with the COVID-19 pandemic, the Bureau discourages the submission of comments by mail, hand delivery, or courier.

All submissions must include the agency name and docket number for this notice. In general, all comments received will be posted without change to http://www.regulations.gov. In addition, once the Bureau's headquarters reopens, comments will be available for public inspection and copying at 1700 G Street NW, Washington, DC 20552, on official business days between the hours of 10 a.m. and 5 p.m. Eastern Time. At that time, you can make an appointment to inspect comments by telephoning (202) 435-9169. All comments, including attachments and other supporting materials, will become part of the public record and subject to public disclosure. You should submit only information that you wish to make available publicly.

FOR FURTHER INFORMATION CONTACT: Tannaz Haddadi, Chief Privacy Officer, at (202) 435-7058. If you require this document in an alternative electronic format, please contact CFPB_Accessibility@cfpb.gov.

SUPPLEMENTARY INFORMATION: The Bureau is establishing CFPB.029, Public Health and Safety System, a system of records under the Privacy Act of 1974. The Bureau is committed to providing all Bureau staff, visitors, and occupants of its facilities with a safe and healthy environment. To ensure and maintain the safety of all occupants during a public health emergency or similar health and safety incident, such as pandemic, epidemic, or man-made emergency, the Bureau may develop and institute additional safety measures that requires the collection of personal information. During public health emergencies, such as a pandemic or epidemic, the Bureau may need to institute safety measures such as tracing potential exposures and notifying individuals who may have come into contact with pathogens or other contagious agents or preventing the threat of or further exposure. These measures may require Bureau staff, visitors, and other occupants of CFPB spaces to provide information about such exposures or their general health before being allowed access or continue to access a Bureau facility, space, or worksite. During man-made emergencies, such as the intentional or accidental release of hazardous materials or agents (e.g., chemical, biological, radioactive, or nuclear materials), the Bureau may institute similar measures to trace potential exposure prior to granting staff, visitors, or other occupants access or continued access to Bureau facilities in an effort to prevent further exposure. Information will be collected and maintained in accordance with applicable law, regulations, and statutes, including, but not limited to, the Rehabilitation Act and regulations and guidance published by the U.S. Occupational Safety and Health Administration, the U.S. Equal Employment Opportunity Commission, and the U.S. Centers for Disease Control and Prevention.

SYSTEM NAME AND NUMBER:

CFPB.029, Public Health and Safety System.

SECURITY CLASSIFICATION:

Unclassified.

SYSTEM LOCATION:

Bureau of Consumer Financial Protection Headquarters at 1700 G Street NW, Washington, DC 20552.

SYSTEM MANAGER(S):

Chief Operating Officer, Bureau of Consumer Financial Protection, 1700 G Street NW, Washington, DC 20552.

AUTHORITY FOR MAINTENANCE OF THE SYSTEM:

29 U.S.C. 668; E.O. 12196, Occupational Safety and Health Programs for Federal Employees (Feb. 26, 1980); E.O. 12656, Assignment of Emergency Preparedness Responsibilities (Nov. 18, 1988); 29 U.S.C. 791 et seq.; 12 U.S.C. 5492.

PURPOSE(S) OF THE SYSTEM:

The information in this system is collected to maintain a safe and healthy environment in Bureau spaces and facilities and to protect Bureau staff, visitors, or occupants from risks associated with a public health emergency or similar health and safety incident, such as pandemic, epidemic, or man-made emergency.

CATEGORIES OF INDIVIDUALS COVERED BY THE SYSTEM:

Individuals covered by this system include Bureau staff (political appointees, employees, contractors, consultants, interns, and volunteers), visitors, and occupants who access or seek to access Bureau facility, space, or worksite or individuals otherwise engaged in official business on behalf of the Bureau. The system also covers individuals identified as emergency contacts for Bureau staff.

CATEGORIES OF RECORDS IN THE SYSTEM:

This system maintains information collected about Bureau staff, visitors, and occupants that will help the Bureau trace potential exposures and notify individuals who may have come into contact with a pathogen, contagious agent, or other hazardous materials due to a public health or man-made emergency. The information collected and maintained by the system about those individuals may include, but is not limited to, their name, contact information, employee identification number (if applicable), the dates when they visited the facility, space, or worksite, whether they may have potentially come into contact with the pathogen or other hazardous materials or agents, dates the Bureau was made aware of the exposure, the locations that they visited within the facility, space, or worksite (e.g., office and/or cubicle number), and the duration of time spent in the facility, space, or worksite. The Bureau may collect information to assess or ensure the health and safety of the facility, space, or worksite prior to allowing access Bureau staff, visitors, or occupants as a result of these emergencies. This information may vary depending on the nature of the specific emergency or event and may include, but is not limited to recent travel dates and location, temperature, symptoms or related diagnosis, or other medical, heath, or safety information related to the event or emergency, which would be collected and maintained in accordance with applicable laws and regulations. The system may also include information related to subsequent actions taken by the Bureau or building management to address the incident. Furthermore, the system includes the name, phone number, and email address of individuals identified as emergency contacts for Bureau staff.

RECORD SOURCE CATEGORIES:

The information in this system in part is collected directly from the individual or from the individual's emergency contact. Information may also be collected from security systems that monitor access to Bureau facilities, such as badging systems, video surveillance, human resources systems, and emergency notification systems. Information may also be collected from property management companies responsible for managing office buildings that house Bureau facilities and spaces.

ROUTINE USES OF RECORDS MAINTAINED IN THE SYSTEM, INCLUDING CATEGORIES OF USERS AND THE PURPOSES OF SUCH USES:

These records may be disclosed, consistent with the Bureau's Disclosure of Records and Information Rules, promulgated at 12 CFR part 1070, to:

(1) Appropriate agencies, entities, and persons when (a) the Bureau suspects or has confirmed that there has been a breach of the system of records; (b) the Bureau has determined that as a result of the suspected or confirmed breach there is a risk of harm to individuals, the Bureau (including its information systems, programs, and operations), the Federal Government, or national security; and (c) the disclosure made to such agencies, entities, and persons is reasonably necessary to assist in connection with the Bureau's efforts to respond to the suspected or confirmed breach or to prevent, minimize, or remedy such harm;

(2) Another Federal agency or Federal entity, when the Bureau determines that information from this system of records is reasonably necessary to assist the recipient agency or entity in (a) responding to a suspected or confirmed breach or (b) preventing, minimizing, or remedying the risk of harm to individuals, the recipient agency or entity (including its information systems, programs, and operations), the Federal Government, or national security, resulting from a suspected or confirmed breach;

(3) Another Federal or State agency to (a) permit a decision as to access, amendment or correction of records to be made in consultation with or by that agency, or (b) verify the identity of an individual or the accuracy of information submitted by an individual who has requested access to or amendment or correction of records;

(4) The Executive Office of the President in response to an inquiry from that office made at the request of the subject of a record or a third party on that person's behalf;

(5) Congressional offices in response to an inquiry made at the request of the individual to whom the record pertains;

(6) Contractors, agents, or other authorized individuals performing work on a contract, service, cooperative agreement, job, or other activity on behalf of the Bureau or Federal Government and who have a need to access the information in the performance of their duties or activities;

(7) The Department of Justice (DOJ) for its use in providing legal advice to the Bureau or in representing the Bureau in a proceeding before a court, adjudicative body, or other administrative body, where the use of such information by the DOJ is deemed by the Bureau to be relevant and necessary to the advice or proceeding, and such proceeding names as a party in interest:

(a) The Bureau;

(b) Any employee of the Bureau in his or her official capacity;

(c) Any employee of the Bureau in his or her individual capacity where DOJ has agreed to represent the employee; or

(d) The United States, where the Bureau determines that litigation is likely to affect the Bureau or any of its components;

(8) A grand jury pursuant either to a Federal or State grand jury subpoena, or to a prosecution request that such record be released for the purpose of its introduction to a grand jury, where the subpoena or request has been specifically approved by a court. In those cases where the Federal Government is not a party to the proceeding, records may be disclosed if a subpoena has been signed by a judge;

(9) A court, magistrate, or administrative tribunal in the course of an administrative proceeding or judicial proceeding, including disclosures to opposing counsel or witnesses (including expert witnesses) in the course of discovery or other pre-hearing exchanges of information, litigation, or settlement negotiations, where relevant or potentially relevant to a proceeding, or in connection with criminal law proceedings;

(10) Appropriate national, State, tribal, local, or territorial public health entities responsible for infection prevention and control, testing, community mitigation, surveillance and data analytics, and tracing of exposures in their respective jurisdictions;

(11) Appropriate agencies, entities, and persons to the extent necessary to obtain information relevant to current and former Bureau employees' benefits, compensation, and employment;

(12) Appropriate Federal, State, local, foreign, tribal, or self-regulatory organizations or agencies responsible for investigating, prosecuting, enforcing, implementing, issuing, or carrying out a statute, rule, regulation, order, or license, if the information is relevant to and indicates a violation or a potential violation of civil or criminal law, rule, regulation, order, or license within the responsibilities of the recipient agency; and

(13) Bureau staff, visitors, emergency contacts, or others to the extent necessary to locate an individual during a public health or safety emergency, trace potential exposures, and/or notify individuals who may have come into contact with the pathogen or hazardous agent or material as a result of accessing or visiting a CFPB facility, space, or worksite.

POLICIES AND PRACTICES FOR STORAGE OF RECORDS:

The records are maintained in paper and electronic media. Access to electronic records is restricted to authorized personnel who have been issued non-transferrable access codes and passwords. Other records are maintained in locked file cabinets or rooms with access limited to those personnel whose official duties require access.

POLICIES AND PRACTICES FOR RETRIEVAL OF RECORDS:

Records are retrievable by a variety of fields including, without limitation, the individual's name, contact information, or by some combination thereof.

POLICIES AND PRACTICES FOR RETENTION AND DISPOSAL OF RECORDS:

The Bureau will maintain electronic and paper records indefinitely until the National Archives and Records Administration (NARA) approves the CFPB's records disposition schedule.

ADMINISTRATIVE, TECHNICAL, AND PHYSICAL SAFEGUARDS:

Access to electronic records is restricted to authorized personnel who have been issued non-transferrable access codes and passwords. Other records are maintained in locked file cabinets or rooms with access limited to those personnel whose official duties require access.

RECORD ACCESS PROCEDURES:

Individuals seeking access to any record contained in this system of records may inquire in writing in accordance with instructions in 12 CFR 1070.50 et seq. Address such requests to: Chief Privacy Officer, Bureau of Consumer Financial Protection, 1700 G Street NW, Washington, DC 20552. Instructions are also provided on the Bureau website: https://www.consumerfinance.gov/foia-requests/submit-request/.

CONTESTING RECORD PROCEDURES:

Individuals seeking to contest the content of any record contained in this system of records may inquire in writing in accordance with instructions in 12 CFR 1070.50 et seq. Address such requests to: Chief Privacy Officer, Bureau of Consumer Financial Protection, 1700 G Street NW, Washington, DC 20552. Instructions are also provided on the Bureau website: https://www.consumerfinance.gov/privacy/amending-and-correcting-records-under-privacy-act/.

NOTIFICATION PROCEDURES:

See “Record Access Procedures” above.

EXEMPTIONS PROMULGATED FOR THE SYSTEM:

None.

HISTORY:

This is a new system of records.

Dated: February 4, 2021.
Ren Essene,
Senior Agency Official for Privacy, Bureau of Consumer Financial Protection.

[FR Doc. 2021-02668 Filed 2-8-21; 8:45 am]

BILLING CODE 4810-AM-P